DEPARTMENT OF HEALTH AND HUMAN SERVICES

Office of the Secretary

Availability of Funds for Grants for the Bilingual/Bicultural Service Demonstration Program

AGENCY: Office of the Secretary, Office of Public Health and Science, Office of Minority Health, HHS.

ACTION: Notice of availability of funds and request for applications for the Bilingual/Bicultural Service Demonstration Grant Program.

Program Title

Bilingual/Bicultural Service Demonstration Grant Program.

OMB Catalog of Federal Domestic Assistance: The OMB Catalog of Federal Domestic Assistance number for the Bilingual/Bicultural Service Demonstration Program is 93.105.

Authority: This program is authorized under section 1707(e)(1) of the Public Health Service Act, as amended.

Purpose

The purpose of this Fiscal Year 2001 Bilingual/Bicultural Service Demonstration Grant Program is to:

1. Improve and expand the capacity for linguistic and cultural competence of health care professionals and paraprofessionals working with limited-English-proficient (LEP) minority communities; and

2. Improve the accessibility and utilization of health care services among the LEP minority populations.

These grants are intended to demonstrate the merit of programs that involve partnerships between minority community-based organizations and health care facilities in a collaborative effort to:

• Address cultural and linguistic barriers to effective health care service delivery; and

• Increase access to effective health care for the LEP minority populations living in the United States.

Eligible Applicants

To qualify for funding, an applicant must:

1. Be a private non-profit, minority or public community-based organization which addresses health or human services (see definition found in this announcement).

2. Provide services to a targeted LEP minority community.

3. Have an established linkage with a health care facility. Local affiliates of national organizations which have an established link with a health care facility are eligible to apply. The linkage must:

• Involve two separate and distinct entities.

• Be documented in writing as specified under the project requirements described in this announcement.

The organization submitting the application will:

• Serve as the lead agency for the grant.

• Be responsible for management of the project.

• Serve as the fiscal agent for the federal grant awarded.

Organizations are not allowed to receive funding from more than one Office of Minority Health (OMH) grant program a time. An organization may submit only one proposal under this announcement.

Note: National, state-wide, and regional organizations, for-profit hospitals, universities, and schools of higher learning may not apply for these grants.

Availability of Funds

About $1.25 million is expected to be available for award in FY 2001. It is expected that 9 to 15 community-based organizations (CBOs) will receive awards.

Note: It is anticipated that $500,000 of the total funding will be awarded to projects that include HIV/AIDS as one of the targeted health problem areas.

Those applicants chosen through the competitive process:

• Are to begin their service demonstration programs on September 30, 2001.

• Will receive an award ranging from $75,000 to $150,000 total costs (direct and indirect) for a 12 month period.

• Will be able to receive noncompeting continuation awards for an additional 2 years. After year 1, funding is based on:

—The amount of money available; and

—Success or progress in meeting project objectives.

Note: For the non-competing continuation awards, grantees must submit continuation applications, written reports, and continue to meet the established funding guidelines.

• Continuation awards are expected to range from $75,000 to $150,000. The actual funding level will depend on the availability of funds.

Use of Grant Funds

Budgets ranging between $75,000 to $150,000 total costs (direct and indirect) may be requested per year to cover costs of:

• Personnel

• Consultants

• Supplies including screening and outreach supplies

• Equipment

• Grant related travel

• Other grant related costs

Funds may not be used for:

• Medical treatment

• Building alterations or renovations

• Construction

Note: All budget requests must be fully justified in terms of the proposed purpose and objectives. Funds to attend an annual OMH grantee meeting must be included in the budget.

Background

In the United States today, millions of people are not able to speak, read, write, or understand the English language at a level that permits them to interact with their English only health care providers or social services agencies. This can result in barriers in patients' getting to programs, or delays or denial of their services or care. Often, the client may walk away with inaccurate or incomplete health information.

The OMH is committed to working with CBOs to offer activities and services for people with limited English skills.

OMH aims to reach people with limited English proficiency, many of whom are members of racial or ethnic populations. To that end, OMH began the Bilingual/Bicultural Service demonstration Program in 1993. The Program works to build communication bridges and reduce barriers to care for members of LEP communities though offering funding of demonstration projects.

Project Requirements

Each project funded under this demonstration program is to:

1. Address at least 1, but no more than 3 problem health areas identified in the section on Health Areas to be Addressed.

2. Carry out activities to improve and expand the capacity of health care providers and other health care professionals to deliver culturally and linguistically appropriate health care services to the target population.

3. Carry out activities to improve access to health care for the LEP population.

4. Have an established, formal linkage between the community-based organization and a health care facility, prior to submission of an application. The linkage must involve two separate and distinct entities.

A single signed agreement between the applicant organization and the partner organization must be submitted with the application. The agreement must specify in detail the roles and resources that each entity will bring to the project, and the terms of the linkage. The linkage agreement must cover the entire project period.

The document must be signed by individuals with the authority to represent the organization (e.g., president, chief executive officer, executive director).

Health Areas to be Addressed

In FY 2001, the Bilingual/Bicultural Service Demonstration Program will target 21 health areas which are part of the Healthy People 2010 focus areas.

An applicant is required to address at least 1, but no more than 3 of the following health areas for its demonstration project:

• Access to Quality Health Services

• Arthritis, Osteoporosis, and Chronic Back Conditions

• Cancer

• Chronic Kidney Disease

• Diabetes

• Environmental Health

• Family Planning

• Heart Disease and Stroke

• HIV

• Immunization and Infectious Disease

• Injury and Violence Prevention

• Maternal, Infant, and Child Health

• Mental Health and Mental Disorders Conditions

• Nutrition and Overweight

• Oral Health

• Physical Activity and Fitness

• Respiratory Diseases

• Sexually Transmitted Diseases

• Substance Abuse

• Tobacco Use

• Vision and Hearing

Application Kit

• For this grant, you must use form PHS 5161-1 (Revised June 1999 and approved by OMB under Control Number 0937-0189).

• You are advised to pay close attention to the specific program guidelines and general instructions provided in the application kit.

• To get an application kit, write to: Ms. Karen Campbell, Acting Grants Management Officer, Division of Management Operations, Office of Minority Health, Rockwall II Building, Suite 1000, 5515 Security Lane, Rockville, MD 20852; or, call Karen Campbell at: (301) 594-0758.

Where to Send Applications

Send the original and 2 copies of the complete grant application to: Ms. Karen Campbell, Acting Grants Management Officer, Division of Management Operations, Office of Minority Health, Rockwall II Building, Suite 1000, 5515 Security Lane, Rockville, MD 20852.

Application Deadline

To receive consideration, grant applications must be received by the OMH Grants Management Office by May 18, 2001. Applications will be considered as meeting the deadline if they are: (1) Received on or before the deadline date, or (2) postmarked on or before the deadline date and received in time for orderly processing. A legibly dated receipt from a commercial carrier or U.S. Postal Service will be accepted in lieu of a postmark. Private metered postmarks will not be accepted as proof of timely mailing. Applications submitted by facsimile transmission (FAX) or any other electronic format will not be accepted. Applications which do not meet the deadline will be considered late and will be returned to the applicant unread.

How to Get Help

In addition to contacting Karen Campbell for application kits, she may also be contacted for technical assistance on budget and business aspects of the application. For questions on the program and assistance in preparing a grant proposal, contact: Ms. Cynthia H. Amis, Director, Division of Program Operations, Office of Minority Health, Rockwall II Building, Suite 1000, 5515 Security Lane, Rockville, MD 20852; or, call Cynthia Amis at: (301) 594-0769.

For additional assistance contact OMH Regional Minority Health Consultants listed in the grant application kit.

For health information call the OMH Resource Center at 1-800-444-6472.

Review of Application

• Applications will be screened upon receipt. Applications that are not complete or do not conform to or address the criteria of the announcement will be returned without comment.

• Each organization may submit no more than one proposal under this announcement.

• Organizations submitting more than one proposal will be deemed ineligible. The proposals will be returned without comment.

• Accepted applications will be reviewed for technical merit in accordance with PHS policies.

• Applications will be evaluated by an Objective Review Panel. Panel members are chosen for their expertise in minority health and their understanding of the unique health problems and related issues confronted by the racial/ethnic minority populations in the United States.

Application Review Criteria

The technical review of applications will consider the following 5 generic factors.

Factor 1: Background (15%)

• Demonstrated knowledge of the problem at the local level

• Demonstrated need within the proposed community and target population

• Demonstrated support and established linkage(s) in order to conduct the proposed model

• Extent and documented outcome of past efforts and activities with the target population

Factor 2: Objectives (15%)

• Merit of the objectives

• Relevance to the program purpose and stated problem

• Attainability in the stated time frames

Factor 3: Methodology (35%)

• Appropriateness of proposed approach and specific activities for each objective

• Logic and sequencing of the planned approaches in relation to the objectives and program evaluation

• Extent to which the applicant demonstrates access to the target population

• Soundness of the established linkage(s)

Factor 4: Evaluation (20%)

• Thoroughness, feasibility and appropriateness of the evaluation design, data collection and analysis procedures

• Clarity of the intent and plans to document the activities and their outcomes

• Potential for replication of the project for similar target populations and communities

Factor 5: Management Plan (15%)

• Applicant organization's capability to manage and evaluate the project as determined by:

—The qualifications of proposed staff or requirements for “to be hired” staff

—Staff level of effort

—Management experience of the applicant

—Experience of each member of the linkage as it relates to its defined roles and the project

Award Criteria

Funding decisions will be determined by the Deputy Assistant Secretary for Minority Health, OMH and will take under consideration:

• The recommendations and ratings of the review panel

• Geographic and racial/ethnic distribution

• Whether the proposed project will take place in Empowerment Zones and Enterprise Communities

Reporting and Other Requirements

General Reporting Requirements

A successful applicant under this notice will submit: (1) Progress reports; (2) an annual Financial Status Report; and (3) a final progress report and Financial Status Report in the format established by the OMH, in accordance with provisions of the general regulations which apply under 45 CFR Part 74.51-74.52, with the exception of State and local governments to which 45 CFR Part 92, Subpart C reporting requirements apply.

Provision of Smoke-Free Workplace and Nonuse of Tobacco Products by Recipients of PHS Grants

The PHS strongly encourages all grant recipients to provide a smoke-free workplace and to promote the nonuse of all tobacco products. In addition, Public Law 103-227, the Pro-Children Act of 1994, prohibits smoking in certain facilities (or in some cases, any portion of a facility) in which regular or routine education, library, day care, health care or early childhood development services are provided to children.

Public Health System Reporting Requirements

This program is subject to Public Health Systems Reporting Requirements. Under these requirements, a community-based nongovernmental applicant must prepare and submit a Public Health System Impact Statement (PHSIS). The PHSIS is intended to provide information to State and local health officials to keep them apprised of proposed health services grant applications submitted by community-based organizations within their jurisdictions.

Community-based nongovernmental applicants are required to submit, no later than the Federal due date for receipt of the application, the following information to the head of the appropriate state and local health agencies in the area(s) to be impacted: (a) A copy of the face page of the application (SF 424), and (b) a summary of the project (PHSIS), not to exceed one page, which provides: (1) a description of the population to be served, (2) a summary of the services to be provided, and (3) a description of the coordination planned with the appropriate State or local health agencies. Copies of the letters forwarding the PHSIS to these authorities must be contained in the application materials submitted to the Office of Minority Health.

State Reviews

This program is subject to the requirements of Executive Order 12372 which allows States the option of setting up a system for reviewing applications from within their States for assistance under certain Federal programs. The application kit available under this notice will contain a list of States which have chosen to set up a review system and will include a State Single Point of Contact (SPOC) in the State for review. Applicants (other than federally recognized Indian tribes) should contact their SPOCs as early as possible to alert them to the prospective applications and receive any necessary instructions on the State process. For proposed projects serving more than one State, the applicant is advised to contact the SPOC of each affected State. The due date for State process recommendations is 60 days after the application deadline established by the OMH Grants Management Officer. The OMH does not guarantee that it will accommodate or explain its responses to State process recommendations received after that date. (See “Intergovernmental Review of Federal Programs,” Executive Order 12372, and 45 CFR Part 100 for a description of the review process and requirements.)

Healthy People 2010: The PHS is committed to achieving the health promotion and disease prevention objectives of Healthy People 2010, a PHS-led national activity announced in January 2000 to eliminate health disparities and improve years and quality of life. More information on the Healthy People 2010 objectives may be found on the Healthy People 2010 web site: http://www.health.gov/healthypeople. Copies of the Healthy People 2010: Volumes I and II can be purchased by calling (202) 512-1800 (cost $70 for printed version or $19 for CDROM). Another reference is the Healthy People 2000 Review—1998-99.

For 1 free copy of Healthy People 2010, contact NCHS: The National Center for Health Statistics, Division of Data Services, 6525 Belcrest Road, Hyattsville, MD 20782-2003; or telephone (301) 458-4636; ask for DHHS Publication No. (PHS) 99-1256.

This document may also be downloaded from the NCHS web site: http://www.cdc.gov/nchs.

Additional Background Information

In FY 1993, OMH launched the Bilingual/Bicultural Service Demonstration Program to specifically address the linguistic, cultural and social barriers the LEP minority populations encounter when accessing health services. In addition, the program recognized other factors which contribute to the poor health status of LEP minorities including:

• Inadequate number of health care providers and other health care professionals who are culturally competent and skilled in providing linguistically appropriate services

• Shortage of trained interpreters at the community level

• Limited knowledge about appropriate mechanisms to address language barriers in health settings

• Lack of effective partnerships between major mainstream provider organizations and LEP minority communities

• Geographic isolation

• Low economic status

• Lack of health insurance

• Organizational barriers

These factors continue to hinder the LEP populations' ability to access and attain quality health care. Therefore, it is essential that health care providers, health care professionals, and other staff become informed about the diverse linguistic, cultural and medical perspectives of the clientele.

Enhancement of cultural and linguistic competency among these individuals should increase LEP minority populations' knowledge of the Western health care model, and increase their access to and willingness to accept appropriate health care.

In a further effort to insure that all people entering the health care system receive equitable and effective treatment in a culturally and linguistically appropriate manner, the OMH finalized the National Standards on Culturally and Linguistically Appropriate Services (CLAS) in Health Care on December 22, 2000.

While these 14 standards are primarily directed at health care organizations, the principals and activities of culturally and linguistically appropriate services should be undertaken in partnership with communities being served. OMH encourages minority community-based organizations to work with partner health care facilities to implement activities addressing those CLAS standards that have applicability to the purposes of the Bilingual/Bicultural Service Demonstration Program.

Definitions

For purposes of this grant announcement, the following definitions are provided:

Community-Based Organization—Private, nonprofit organizations and public organizations that are representative of communities or significant segments of communities where the control and decision-making powers are located at the community level.

Cultural Competency—The ability to understand and appreciate cultural differences and similarities within, among and between groups. This requires a willingness and ability to draw on community-based values, traditions and customs, and to work with knowledgeable persons of and from the community in developing focused interventions, communications and other supports. (Orlandi, Mario A., 1992.)

Health Care Facility—A private, nonprofit or public facility that has an established record for providing comprehensive health care services to a targeted, LEP racial/ethnic minority community.

A health care facility may be a hospital, outpatient medical facility, community health center, migrant health center, or a mental health center. Facilities providing only screening and referral activities are not included in this definition.

Limited-English-Proficient Populations (LEP)—People from Minority Populations (see definition below) with a primary language other than English. These individuals must communicate in their main language in order to participate effectively in and benefit from any aid, service or benefit provided by the health provider.

Minority Community-Based Organization—Private, non-profit, community-based organizations or local affiliates of a national organizations that have: a governing board composed of 51 percent or more racial/ethnic minority members and a significant number of minorities in key program positions.

Minority Populations

• American Indian or Alaska Native

• Asian

• Black or African American

• Hispanic or Latino

• Native Hawaiian or Other Pacific Islander

Revision to the Standards for the Classification of Federal Data on Race and Ethnicity, Federal Register, Vol. 62, No. 210, pg. 58782, October 30, 1997.)

Dated: March 8, 2001.
Nathan Stinson, Jr.,
Deputy Assistant Secretary for Minority Health.

[FR Doc. 01-6715 Filed 3-16-01; 8:45 am]

BILLING CODE 4160-17-P